DEPARTMENT OF ENERGY

Office of Environmental Management; Notice of Availability of Draft Section 3116 Determination Concerning Disposal of Residual Tank Wastes in Tanks 18 and 19 at the Savannah River Site

AGENCY: Office of Environmental Management, Department of Energy.

ACTION: Notice of availability.

SUMMARY: The Department of Energy (DOE) announces the availability of a draft determination concerning the permanent, in-situ disposal of residual tank wastes (including tank structure and equipment) in liquid radioactive waste tanks 18 and 19 at the F-Tank Farm (FTF) at the Savannah River Site (SRS) near Aiken, South Carolina. DOE prepared the draft determination pursuant to Section 3116 of the Ronald W. Reagan National Defense Authorization Act for Fiscal Year 2005, which authorizes the Secretary of Energy, in consultation with the Nuclear Regulatory Commission, to determine that certain waste from reprocessing is not high-level waste (HLW) if the provisions set forth in section 3116 are satisfied. Although not required by the Act, DOE is making the draft determination available for public review and comment.

DATES: The comment period will end on November 21, 2005. Comments received after this date will be considered to the extent practicable.

ADDRESSES: The draft waste determination is available on the Internet at http://apps.em.doe.gov/swd, and is publicly available for review at the following locations: U.S. Department of Energy, Public Reading Room, 1000 Independence Avenue, SW., Washington, DC 20585, Phone: (202) 586-5955, or Fax: (202) 586-0575; and U.S. Department of Energy, Savannah River Operations Office, Public Reading Room, 171 University Parkway, Aiken, SC 29801, Phone: (803) 641-3320, or Fax: (803) 641-3302. Written comments should be addressed to: Mr. Matthew Duchesne, U.S. Department of Energy, Office of Environmental Management, EM-2, 1000 Independence Avenue, SW., Washington, DC 20585. Alternatively, comments can be filed electronically by e-mail to matthew.duchesne@em.doe.gov, or by Fax at (202) 586-4314.

SUPPLEMENTARY INFORMATION: Since 1954, SRS Tank Farms F and H have received over 140 million gallons (Mgal) of waste from SRS nuclear material processing facilities. Much of this waste resulted from the reprocessing of spent nuclear fuel for defense purposes, which has been commingled with non-reprocessing waste. The waste tanks contain two distinct types of radioactive waste material, approximately 3 Mgal of radioactive sludge and approximately 34 Mgal of salt waste. DOE's plans call for stabilizing and disposing of retrieved sludge in a deep geologic repository for spent nuclear fuel and high-level radioactive waste. Regarding the salt waste, DOE contemplates removing fission products and actinides from these materials using a variety of technologies and solidifying the remaining low-activity salt stream into a grout matrix, known as saltstone grout, suitable for disposal in vaults at the Saltstone Disposal Waste Determination.

This Determination addresses only the permanent disposal of the residual materials contaminating Tank 18 and Tank 19, as well as the structure of the tanks themselves and ancillary equipment. Both tanks have a nominal operating capacity of 1.3 Mgal. Waste removal operations for Tank 18 were initiated in 1985 and completed in 2003. Tank 18 now holds approximately 4.3 thousand gallons (Kgal) of residual material. Waste removal operations for Tank 19 were initiated in 1981 and completed in 2001, and it now holds approximately 15.1 Kgal of residual material. DOE plans to fill both tanks with a reducing grout designed to stabilize and solidify the residual material. This method was chosen as the least hazardous and most environmentally preferable alternative. It will reduce migration of contaminants into the environment; prevent inadvertent intrusion; minimize free-standing liquids; and minimize void spaces in the tank. After final pouring of the stabilizing grout, a layer of higher-strength grout will be poured into the tanks to further discourage human/animal inadvertent intrusion. In addition, institutional controls (access restriction and groundwater monitoring) will be implemented and maintained in accordance with Federal and State agreements.

Final Determination: Section 3116 authorizes the Secretary of Energy, in consultation with the Nuclear Regulatory Commission (NRC), to determine that certain waste from reprocessing is not HLW if the provisions set forth in Section 3116 are satisfied. DOE will issue a final waste determination for Tanks 18 and 19 following the completion of consultation with the NRC, and consideration of any public comments.

Issued in Washington, DC, on October 3, 2005.
Mark A. Gilbertson,
Deputy Assistant, Secretary for Environmental Cleanup and Acceleration.

[FR Doc. 05-20257 Filed 10-6-05; 8:45 am]

BILLING CODE 6450-01-P